DEPARTMENT OF ENERGY

Proposed Subsequent Arrangement

AGENCY: Office of International Regimes and Agreements, Department of Energy.

ACTION: Subsequent arrangement.

SUMMARY: This notice has been issued under the authority of Section 131 of the Atomic Energy Act of 1954, as amended (42 U.S.C. 2160). The Department is providing notice of a proposed subsequent arrangement under the Agreement for Cooperation Between the United States of America and the Government of Canada Concerning Peaceful Uses of Nuclear Energy and the Agreement Between the United States and the Government of Japan Concerning Peaceful Uses of Nuclear Energy.

This subsequent arrangement concerns the retransfer of 28,409 kg of U.S.-origin natural uranium dioxide, 25,000 kg of which is uranium, from Cameco in Ontario, Canada to Global Nuclear Fuels in Kanakawa-ken, Japan. The material, which is currently located at Cameco, Port Hope, Ontario, will be transferred to Global Nuclear Fuel, Kanakawa-ken, Japan to be fabricated into fuel pellets and used by Electric Power Development Co, Ltd., Tokyo, Japan. The material was originally obtained by Cameco from Crowe Butte Resources Inc. pursuant to export license XSOU8798.

In accordance with Section 131 of the Atomic Energy Act of 1954, as amended, we have determined that this subsequent arrangement is not inimical to the common defense and security. This subsequent arrangement will take effect no sooner than fifteen days after the date of publication of this notice.

Dated: December 31, 2009.
For the Department of Energy.
Richard Goorevich,
Director, Office of International Regimes and Agreements.

[FR Doc. E9-31370 Filed 1-4-10; 8:45 am]

BILLING CODE 6450-01-P